FEDERAL COMMUNICATIONS COMMISSION

Notice of Debarment

AGENCY: Federal Communications Commission.

ACTION: Notice.

SUMMARY: Larry Lehmann has agreed to debarment from the schools and libraries universal service support mechanism (or “E-Rate Program”), and government-wide Voluntary Exclusion from procurement and non-procurement programs. Both the debarment and Voluntary Exclusion are for a period of ten years. The United States government took this action to ensure that the E-Rate program and other federal programs are free from fraudulent and deceitful claims.

DATES: Debarment commenced on July 31, 2013, for a period of ten years.

FOR FURTHER INFORMATION CONTACT: Hillary B. Burchuk, Trial Attorney, Federal Communications Commission, Office of General Counsel, 445 12th Street SW., Washington, DC 20554. Hillary Burchuk may be contacted by telephone at (202) 418-1719 or by email at hillary.burchuk@fcc.gov. If Ms. Burchuk is unavailable, you may contact Jim Bird, Office of General Counsel at telephone (202) 418-7802 or jim.bird@fcc.gov.

SUPPLEMENTARY INFORMATION: Mr. Lehmann agreed to debarment and exclusion in connection with the settlement of U.S. ex re. Dave Richardson and Dave Gillis v. Larry Lehmann, No. 4:04-cv-3836 (S.D. Tex.). The complete text of the Settlement Agreement and Voluntary Debarment Agreement is available at http://transition.fcc.gov/eb/usfc/vnr.html.

Federal Communications Commission.
Hillary B. Burchuk,
Trial Attorney, Litigation Division, Office of General Counsel.

[FR Doc. 2013-21032 Filed 8-30-13; 8:45 am]

BILLING CODE 6712-01-P